FEDERAL COMMUNICATIONS COMMISSION

Notice of Public Information Collection(s) Being Reviewed by the Federal Communications Commission, Comments Requested

January 9, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 16, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, and an e-mail to PRA@fcc.gov.

FOR FURTHER INFORMATION CONTACT: For additional information, contact Judith B. Herman at 202-418-0214 or via the Internet at Judith-B.Herman@fcc.gov.

SUPPLEMENTARY INFORMATION: OMB Control Number: 3060-0763.

Title: ARMIS Customer Satisfaction Report.

Report No.: FCC 43-06.

Type of Review: Extension of a currently approved collection.

Respondents: Business or other for-profit.

Number of Respondents: 7 respondents; 7 responses.

Estimated Time per Response: 720 hours.

Frequency of Response: Annual reporting requirement.

Obligation to Respond: Mandatory. Statutory authority for these information collections are contained in 47 U.S.C. sections 161, 219, and 220.

Total Annual Burden: 5,040 hours.

Total Annual Cost: N/A.

Privacy Act Impact Assessment: N/A.

Nature and Extent of Confidentiality: The Commission contends that areas in which detailed information is required are fully subject to regulation and the issue of data being regarded as sensitive will arise in special circumstances only. In such circumstances, the respondent is instructed on the appropriate procedures to follow to safeguard confidential data. Respondents may request confidential treatment of such information under 47 CFR 0.459 of the Commission's rules.

Needs and Uses: The Commission will submit this information collection to the Office of Management and Budget (OMB) after this 60 day comment period in order to obtain the full three year clearance from them. The Commission is requesting an extension (no change in the annual reporting requirement). There is no change in the number of respondents/responses and burden hours.

In the Commission's Memorandum and Opinion and Order and Notice of Proposed Rulemaking, WC Docket No. 08-190, FCC 08-203, released September 6, 2008, the Commission granted in significant part AT&T's petition for forbearance from the ARMIS service quality and infrastructure reporting requirements, subject to certain conditions. In addition, the Commission determined that its conclusions underlying its forbearance decision for AT&T also hold true for the other carriers required to file ARMIS Reports 43-05, 43-06, 43-07, and 43-08. Subject to certain conditions, the Commission found that the criteria of section 10(A)(1) and (a)(2) are satisfied. Given the burdens associated with the data reporting, and in light of the commitments of the reporting carriers, and other continuing regulatory requirements, the Commission determined that forbearance to be in the public interest.

The Commission noted that the reporting carriers have committed to continue customer satisfaction data and to file those data publicly, through ARMIS Report 43-06 filing for 24 months from the effective date of the Commission's order. Further, the Commission noted that this will ensure continuity with regard to the customer satisfaction data that the Commission has collected up to this point, and affords the Commission a reasonable period of time to consider whether to adopt industry-wide reporting requirements. The Commission therefore adopted that commitment as a condition of its forbearance. Finally, the Commission granted the same forbearance relief to any similarly situated carriers who made the same commitment and made clear that the relief that the Commission granted is not otherwise conditional.

In the NPRM portion of the Commission's September 6, 2008 Order placed in the Federal Register on October 15, 2008 (73 FR 60997), the Commission recognized the possibility that customer satisfaction data contained in ARMIS Report 43-06 might be useful to consumers to help them make informed choices in a competitive market, but only if available from the entire relevant industry. The Commission tentatively concluded that it should collect this type of information, and seek comments on specific information that the Commission should collect. The Commission also asked for comments on the appropriate mechanism for such data collection.

The ARMIS Report 43-06 provides the necessary detail to enable the Commission to fulfill its regulatory responsibilities. This report reflects the results of customer satisfaction surveys conducted by individual carriers from residential and business customers. This report captures trends in service quality. Automated reporting of these data greatly enhances the Commission's ability to process and analyze the extensive amounts of data that are needed to administer its rules. Automating and organizing data submitted to the Commission facilitates the timely and efficient analysis of revenue requirements, rate-of-return and price caps, and provides an improved basis for auditing and other oversight functions.

Federal Communications Commission.
Marlene H. Dortch,
Secretary.

[FR Doc. E9-799 Filed 1-14-09; 8:45 am]

BILLING CODE 6712-01-P